DEPARTMENT OF HEALTH AND HUMAN SERVICES

Centers for Disease Control and Prevention

Disease, Disability, and Injury Prevention and Control Special Emphasis Panel (SEP): Initial Review

The meeting announced below concerns Member Conflict Review, Program Announcement (PA) 07-318, and Centers of Excellence to Promote a Healthier Workforce Supplement, Request for Applications (RFA) OH 11-001 initial review.

In accordance with Section 10(a)(2) of the Federal Advisory Committee Act (Pub. L. 92-463), the Centers for Disease Control and Prevention (CDC) announces the aforementioned meeting:

Time and Date: 1:00 p.m.-3:00 p.m., June 28, 2012 (Closed).

Place: National Institute for Occupational Safety and Health (NIOSH), CDC, 1095 Willowdale Road, Morgantown, West Virginia 26506, Telephone: (304) 285-6143.

Status: The meeting will be closed to the public in accordance with provisions set forth in Section 552b(c) (4) and (6), Title 5 U.S.C., and the Determination of the Director, Management Analysis and Services Office, CDC, pursuant to Public Law 92-463.

Matters To Be Discussed: The meeting will include the initial review, discussion, and evaluation of applications received in response to “Member Conflict Review, PA 07-318” and “Centers of Excellence to Promote a Healthier Workforce Supplement, RFA OH 11-001.”

Contact Person for More Information: Bernadine Kuchinski, Ph.D., Scientific Review Administrator, Office of Extramural Programs, NIOSH, CDC, Robert A. Taft Laboratories, 4676 Columbia Parkway, MS C-7, Cincinnati, Ohio 45226, Telephone: (513) 533-8511.

The Director, Management Analysis and Services Office, has been delegated the authority to sign Federal Register notices pertaining to announcements of meetings and other committee management activities, for both the Centers for Disease Control and Prevention, and the Agency for Toxic Substances and Disease Registry.

Dated: May 17, 2012.
Elaine L. Baker,
Director, Management Analysis and Services Office, Centers for Disease Control and Prevention.

[FR Doc. 2012-12675 Filed 5-23-12; 8:45 am]

BILLING CODE 4163-18-P